DEPARTMENT OF LABOR

Employment and Training Administration

[TA-W-55,216]

ITW Insulation Systems, Nitro, WV; Notice of Negative Determination on Reconsideration

On January 11, 2005, the Department issued an Affirmative Determination Regarding Application for Reconsideration for the workers and former workers of the subject firm. The notice was published in the Federal Register on January 21, 2005 (70 FR 3227).

The petition for the workers of ITW Insulation Systems, Nitro, West Virginia engaged in production of metal jacketing and industrial thermal insulation applications was denied because the “contributed importantly” group eligibility requirement of Section 222 of the Trade Act of 1974, as amended, was not met. The “contributed importantly” test is generally demonstrated through a survey of the workers' firm's customers. The survey revealed no increase of imports of metal jacketing an industrial thermal insulation applications during the relevant period. The subject firm did not import metal jacketing and industrial thermal insulation applications in the relevant period nor did it shift production to a foreign country.

In the request for reconsideration, the petitioner requests to extend the period for investigation beyond the relevant time period.

A review of the original investigation confirmed that the subject firm ceased its production on June 30, 2004. All the surveys and data requested from the subject firm and its customers reflected this date. The Department considers import impact in terms of the relevant period of the current investigation; therefore import impact that is outside the relevant period are irrelevant. The Department must conform to the Trade Act and associated regulations.

The petitioner further requested to extend the survey of customers to include those in the northeast.

Additional list of customers was requested from the subject firm. As a result, six additional largest customers were surveyed in the reconsideration process. These customers reported no imports of like or directly competitive products with those manufactured by the subject firm during the relevant period.

The petitioner also alleges that the subject firm “will be supplying their customer base from their facility in Canada.”

A company official was contacted regarding the above allegation. The company official stated that no production has been shifted from the subject firm to Canada, nor is the United States operation importing from Canada.

Conclusion

After review of the application and investigative findings, I conclude that there has been no error or misinterpretation of the law or of the facts which would justify reconsideration of the Department of Labor's prior decision. Accordingly, the application is denied.

Signed at Washington, DC, this 9th day of February, 2005.
Elliott S. Kushner,
Certifying Officer, Division of Trade Adjustment Assistance.

[FR Doc. 05-3355 Filed 2-18-05; 8:45 am]

BILLING CODE 4510-30-M